DEPARTMENT OF HEALTH AND HUMAN SERVICES

Substance Abuse and Mental Health Services Administration (SAMHSA)

Notice of a Meeting

Pursuant to Public Law 92-463, notice is hereby given of a meeting of the Substance Abuse and Mental Health Services Administration (SAMHSA) National Advisory Council in June 2002.

The SAMHSA National Advisory Council meeting will be open and will include a panel presentation on workforce issues, a presentation on the President's New Freedom Commission on Mental Health, and an update on SAMHSA's Strategic Plan. The agenda will also include small group sessions on SAMHSA's programs priorities: co-occurring disorders and trauma, substance abuse treatment capacity, seclusion and restraint, prevention and early intervention, children and families, New Freedom Initiative, terrorism/bio-terrorism, homelessness, aging, HIV/AIDS and Hepatitis C, and criminal justice.

Attendance by the public will be limited to space available. Public comments are welcome. Please communicate with the individual listed as contact below to make arrangements to comment or to request special accommodations for persons with disabilities.

Substantive program information, a summary of the meeting, and a roster of Council members may be obtained from the contact whose name and telephone number is listed below.

Committee Name: SAMHSA National Advisory Council.

Date/Time: Thursday, June 20, 2002, 2:30 p.m. to 5:30 p.m. (Open).

Place: Gaithersburg Marriott Washingtonian Center, 9751 Washingtonian Boulevard, Gaithersburg, Maryland 20878.

Contact: Toian Vaughn, Executive Secretary, 5600 Fishers Lane, Parklawn Building, Room 12C-15, Rockville, MD 20857, Telephone: (301) 443-7016; FAX: (301) 443-7590 and E-mail: tvaughn@samhsa.gov.

Dated: June 4, 2002.
Toian Vaughn,
Committee Management Officer, SAMHSA.

[FR Doc. 02-14459 Filed 6-7-02; 8:45 am]

BILLING CODE 4162-20-P